DEPARTMENT OF DEFENSE

Office of the Secretary

[Docket ID: DOD-2016-OS-0019]

Privacy Act of 1974; System of Records

AGENCY: Office of the Secretary of Defense, DoD.

ACTION: Notice to add a new system of records.

SUMMARY: The Office of the Secretary of Defense proposes to add a new system of records, DMDC 23 DoD, entitled “Investigations and Resolutions Case Management System (IRCMS).” This system will serve as the Department of Defense's enterprise-wide, web-based tracking and case management application that provides an effective mechanism to manage and track Equal Employment Opportunity (EEO) complaints submitted for investigation.

DATES: Comments will be accepted on or before April 6, 2016. This proposed action will be effective the day following the end of the comment period unless comments are received which result in a contrary determination.

ADDRESSES: You may submit comments, identified by docket number and title, by any of the following methods:

* Federal Rulemaking Portal: http://www.regulations.gov. Follow the instructions for submitting comments.

* Mail: Department of Defense, Office of the Deputy Chief Management Officer, Directorate of Oversight and Compliance, Regulatory and Audit Matters Office, 9010 Defense Pentagon, Washington, DC 20301-9010.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571)372-0461.

SUPPLEMENTARY INFORMATION: The Office of the Secretary of Defense notices for systems of records subject to the Privacy Act of 1974 (5 U.S.C. 552a), as amended, have been published in the Federal Register and are available from the address in FOR FURTHER INFORMATION CONTACT or at http://dpcld.defense.gov/. The proposed system report, as required by 5 U.S.C. 552a(r) of the Privacy Act of 1974, as amended, was submitted on February 23, 2016, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: March 2, 2016.
Aaron Siegel,
Alternate OSD Federal Register Liaison Officer, Department of Defense.

DMDC 23 DoD

System name:

Investigations and Resolutions Case Management System (IRCMS)

System location:

Defense Civilian Personnel Advisory Service (DCPAS), Mark Center, 4800 Mark Center Drive, Enterprise Human Resources Information Systems (EHRIS), Alexandria, VA 22350-1100.

Categories of individuals covered by the system:

Applicants for Federal employment and current and former Department of Defense Federal employees who file complaints of discrimination or reprisal, appeals of agency decisions with the Equal Employment Opportunity (EEO) Commission, petitions for review of decisions of the Merit System Protection Board, or request for review of final decisions in negotiated grievance actions.

Categories of records in the system:

Complainant's full name, date of birth, race, religion, gender, disability information, national origin; employment information; security clearance and educational information (as it relates to the nature of the EEO complaint); prior EEO activity; home address and telephone number; work telephone number; Agency Docket Number; and information about the alleged discrimination basis(es) and requested relief.

Authority for maintenance of the system:

29 CFR 1614, Federal Sector Equal Employment Opportunity; E.O. 12106, Transfer of Certain Equal Employment Enforcement Functions; E.O. 11478, Equal Employment Opportunity in the Federal Government, as amended; and Department of Defense Instruction 1400.25, Volume 1614, DoD Civilian Personnel Management System: Investigation of Equal Employment Opportunity (EEO) Complaints.

Purpose(s):

Provides an effective mechanism to manage and track EEO complaints submitted for investigation. The system provides a comprehensive repository for case information, electronic file management, and a full-featured report generation module to meet a variety of reporting requirements and program evaluation needs. The IRCMS includes the capability to enter and collect data, manage case deadlines, generate reports and metrics as required, and facilitate case management and program improvement decision-making within DoD. The information is also used to respond to individual Freedom of Information Act (FOIA) requests, Congressional requests, and performance metrics for employees.

Routine uses of records maintained in the system, including categories of users and the purposes of such uses:

In addition to those disclosures generally permitted in accordance with 5 U.S.C. 552a(b) of the Privacy Act of 1974, as amended, the records contained herein may specifically be disclosed outside the DoD as a routine use pursuant to 5 U.S.C. 552a(b)(3) as follows:

Law Enforcement Routine Use. If a system of records maintained by a DoD Component to carry out its functions indicates a violation or potential violation of law, whether civil, criminal, or regulatory in nature, and whether arising by general statute or by regulation, rule, or order issued pursuant thereto, the relevant records in the system of records may be referred, as a routine use, to the agency concerned, whether federal, state, local, or foreign, charged with the responsibility of investigating or prosecuting such violation or charged with enforcing or implementing the statute, rule, regulation, or order issued pursuant thereto.

Disclosure When Requesting Information Routine Use. A record from a system of records maintained by a DoD Component may be disclosed as a routine use to a federal, state, or local agency maintaining civil, criminal, or other relevant enforcement information or other pertinent information, such as current licenses, if necessary to obtain information relevant to a DoD Component decision concerning the hiring or retention of an employee, the issuance of a security clearance, the letting of a contract, or the issuance of a license, grant, or other benefit.

Disclosure of Requested Information Routine Use. A record from a system of records maintained by a DoD Component may be disclosed to a federal agency, in response to its request, in connection with the hiring or retention of an employee, the issuance of a security clearance, the reporting of an investigation of an employee, the letting of a contract, or the issuance of a license, grant, or other benefit by the requesting agency, to the extent that the information is relevant and necessary to the requesting agency's decision on the matter.

Congressional Inquiries Disclosure Routine Use. Disclosure from a system of records maintained by a DoD Component may be made to a congressional office from the record of an individual in response to an inquiry from the congressional office made at the request of that individual.

Disclosure to the Office of Personnel Management Routine Use. A record from a system of records subject to the Privacy Act and maintained by a DoD Component may be disclosed to the Office of Personnel Management (OPM) concerning information on pay and leave, benefits, retirement deduction, and any other information necessary for the OPM to carry out its legally authorized government-wide personnel management functions and studies.

Disclosure to the Department of Justice for Litigation Routine Use. A record from a system of records maintained by a DoD Component may be disclosed as a routine use to any component of the Department of Justice for the purpose of representing the Department of Defense, or any officer, employee or member of the Department in pending or potential litigation to which the record is pertinent.

Disclosure of Information to the National Archives and Records Administration Routine Use. A record from a system of records maintained by a DoD Component may be disclosed as a routine use to the National Archives and Records Administration for the purpose of records management inspections conducted under authority of 44 U.S.C. 2904 and 2906.

Disclosure to the Merit Systems Protection Board Routine Use. A record from a system of records maintained by a DoD Component may be disclosed as a routine use to the Merit Systems Protection Board, including the Office of the Special Counsel for the purpose of litigation, including administrative proceedings, appeals, special studies of the civil service and other merit systems, review of OPM or component rules and regulations, investigation of alleged or possible prohibited personnel practices; including administrative proceedings involving any individual subject of a DoD investigation, and such other functions, promulgated in 5 U.S.C. 1205 and 1206, or as may be authorized by law.

Data Breach Remediation Purposes Routine Use. A record from a system of records maintained by a Component may be disclosed to appropriate agencies, entities, and persons when (1) The Component suspects or has confirmed that the security or confidentiality of the information in the system of records has been compromised; (2) the Component has determined that as a result of the suspected or confirmed compromise there is a risk of harm to economic or property interests, identity theft or fraud, or harm to the security or integrity of this system or other systems or programs (whether maintained by the Component or another agency or entity) that rely upon the compromised information; and (3) the disclosure made to such agencies, entities, and persons is reasonably necessary to assist in connection with the Components efforts to respond to the suspected or confirmed compromise and prevent, minimize, or remedy such harm.

The DoD Blanket Routine Uses set forth at the beginning of the Office of the Secretary of Defense (OSD) compilation of systems of records notices may apply to this system. The complete list of DoD Blanket Routine Uses can be found Online at: http://dpclo.defense.gov/Privacy/SORNsIndex/BlanketRoutineUses.aspx.

Policies and practices for storing, retrieving, accessing, retaining, and disposing of records in the system:

Storage:

Electronic storage media.

Retrievability:

Complainant name and/or docket number.

Safeguards:

Physical controls include use of visitor registers and identification badges, electronic key card access, and closed-circuit television monitoring. Technical controls including intrusion detection systems, secure socket layer encryption using DoD Public Key Infrastructure certificates, firewalls, and virtual private networks which protect the data in transit and at rest. Physical and electronic access is limited to individuals who are properly screened and cleared on a need-to-know basis in the performance of their official duties. Usernames, passwords, and Common Access Cards, in addition to role-based access controls are used to control access to the systems data. Procedures are in place to deter and detect browsing and unauthorized access including periodic security audits and monitoring of users' security practices.

Retention and disposal:

Disposition pending (treat records as permanent until the National Archives and Records Administration has approved the retention and disposition schedule).

System manager(s) and address:

Defense Civilian Personnel Advisory Service (DCPAS), Mark Center, 4800 Mark Center Drive, Enterprise Human Resources Information Systems (EHRIS), Alexandria, VA 22350-1100.

Notification procedures:

Individuals seeking to determine whether information about themselves is contained in this system of records should address inquiries to Defense Civilian Personnel Advisory Service (DCPAS), Mark Center, 4800 Mark Center Drive, Enterprise Human Resources Information Systems (EHRIS), Alexandria, VA 22350-1100.

Signed, written requests should contain the individual's full name and Agency Docket Number.

Record access procedures:

Individuals seeking access to information about themselves contained in this system should address inquiries to the Office of the Secretary of Defense/Joint Staff Freedom of Information Act Requester Service Center, 1155 Defense Pentagon, Washington, DC 20301-1155.

Signed, written requests should contain the name and number of this system of records notice along with the individual's full name and Agency Docket Number.

Contesting record procedures:

The Office of the Secretary of Defense rules for accessing records, for contesting contents and appealing initial agency determinations are contained in Office of the Secretary of Defense Administrative Instruction 81; 32 CFR part 311; or may be obtained from the system manager.

Record source categories:

The individual and the Servicing EEO Office.

Exemptions claimed for the System:

None.

[FR Doc. 2016-04995 Filed 3-4-16; 8:45 am]

BILLING CODE 5001-06-P